DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provision involved, the nature of the relief being requested, and the petitioner's arguments in favor of relief.

Union Pacific Railroad Company

[Docket Number FRA-2001-8697]

Union Pacific Railroad Company (UP) is seeking a waiver of compliance with a provision of the Railroad Power Brakes and Drawbars regulations, 49 CFR 232.12 (initial terminal road train air brake tests). The UP requests a waiver to permit cars received in interchange from Ferromex (Mexican railroad) at Nogales, Arizona to be moved approximately 8 miles north of Nogales to the siding at Rio before an initial terminal air brake test is performed.

UP states that presently, Ferromex delivers to UP on an average of three trains per day with lengths between 4000 and 6000 feet. UP states that the UP yard at Nogales is small and delivery of these trains all require blockages of key street crossings within the City of Nogales for considerable lengths of time. This problem has been exacerbated in recent years with the increase of traffic over the Nogales interchanges and as the result of changed traffic patterns, which were due to a number of factors. These include the privatization of the Mexican railroads, NAFTA trade agreement and UP-SP merger. Trains received from Ferromex require an initial terminal brake test to be performed before departing Nogales and this contributes to increased amount of time crossings are blocked.

The UP waiver request is to permit movement of trains to Rio for the performance of the initial terminal air brake test. Trains involved in such movements would have the air brake test system charged, a set and release to ensure brakes setting and releasing on the rear car, and movement restricted to 25 mph, until the initial brake test could be performed at Rio. Any bad order cars discovered at Rio would be set out there for repair purposes.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-8697) and must be submitted to the Docket Clerk, DOT Docket Management Facility, Room PL-401 (Plaza Level), 400 7th Street, SW., Washington, DC 20590. Communications received within 30 days of the date will be considered as far as practicable. All written communications concerning these proceedings are available for examination during regular business hours (9:00 a.m.-5:00 p.m.) at the above facility. All documents in the public docket are also available for inspection and copying on the Internet at the docket facility's web site http://dms.dot.gov.

Issued in Washington, D.C. on February 22, 2001.
Grady C. Cothen, Jr.,
Deputy Associate Administrator for Safety Standards and Program Development.

[FR Doc. 01-5408 Filed 3-5-01; 8:45 am]

BILLING CODE 4910-06-P